DEPARTMENT OF STATE

22 CFR Part 196

[Public Notice 3847]

The Thomas R. Pickering Foreign Affairs/Graduate Foreign Affairs Fellowship Program and Grants to Post-Secondary Institutions

ACTION: Proposed rule.

SUMMARY: This document proposes the rule by which the Department of State's Thomas R. Pickering Foreign Affairs/Graduate Foreign Affairs Fellowship program will be administered. The State Department Basic Authorities Act (22 U.S.C. 2719) states that the Department shall establish regulations which will provide for a limit on the size of any specific grant and, regarding any grant to individuals, shall ensure no grant recipient receives grants from one or more Federal programs which in the aggregate would exceed the cost of his or her educational expenses and shall require satisfactory educational progress by grantees as a condition of eligibility for continued participation in the program.

DATES: Comments are due on or before March 12, 2002.

ADDRESSES: Send comments to the Chief of Student Programs, Office of Recruitment, Bureau of Human Resources, Department of State, 2401 E Street, NW., Room H-518, Washington, DC 20522.

FOR FURTHER INFORMATION CONTACT: Richard Esper, Office of Recruitment/Student Programs at (202) 261-8924.

SUPPLEMENTARY INFORMATION: The Thomas R. Pickering Foreign Affairs/Graduate Foreign Affairs Fellowship Program was established to recruit a talented and diverse group of students into the Foreign Service. The State Department Basic Authorities Act (22 U.S.C. 2719) authorizes the Secretary of State to make grants to post-secondary education institutions or students for the purpose of increasing the level of knowledge and awareness of and interest in employment with the Foreign Service. The program provides scholarships to undergraduate and graduate students in academic programs relevant to international affairs, political and economic analysis, administration, management and science policy. While in school, Fellows participate in one domestic and one overseas internship within the U.S. Department of State. After completing their academic training, and successfully passing the Foreign Service entry requirements, Fellows will enter the U.S. Department of State Foreign Service as Foreign Service Officers. Consideration is given to all qualified applicants who, in addition to outstanding leadership skills and academic achievement, demonstrate financial need. The number of fellowships awarded is determined by available funding.

List of Subjects in 22 CFR Part 196

Education, Educational study programs, Federal aid programs, Grant programs, Scholarships and fellowships, and Students.

For the reasons discussed in the preamble, the U.S. Department of State amends 22 CFR chapter I by adding Part 196 to read as follows:

PART 196—THOMAS R. PICKERING FOREIGN AFFAIRS/GRADUATE FOREIGN AFFAIRS FELLOWSHIP PROGRAM

Sec.
196.1 What is the Fellowship Program?
196.2 How is the Fellowship Program administered?
196.3 Grants to post-secondary education institutions.
196.4 Administering Office.

Authority: 22 U.S.C. 2719.

§ 196.1 What is the Fellowship Program?

The Thomas R. Pickering Foreign Affairs/Graduate Foreign Affairs Fellowship Program is designed to attract outstanding men and women at the undergraduate and graduate educational levels for the purpose of increasing the level of knowledge and awareness of and employment with the Foreign Service, consistent with 22 U.S.C. 3905. The Program develops a source of trained men and women, from academic disciplines representing the skill needs of the Department, who are dedicated to representing the United States' interests abroad.

§ 196.2 How is the Fellowship Program administered?

(a) Eligibility. Eligibility will be determined annually by the Department of State and publicized nationwide. Fellows must be United States citizens.

(b) Provisions. The grant awarded to each individual student shall not exceed $250,000 for the total amount of time the student is in the program. Fellows are prohibited from receiving grants from one or more Federal programs, which in the aggregate would exceed the cost of his or her educational expenses. Continued eligibility for participation is contingent upon the Fellow's ability to meet the educational requirements set forth below.

(c) Program requirements. Eligibility for participation in the program is conditional upon successful completion of pre-employment processing specified by the Department of State, including background investigation, medical examination, and drug testing. As a condition of eligibility for continued receipt of grant funds, fellows are required to complete prescribed coursework and maintain a satisfactory grade point average as determined by the Department of State. Fellows are also required to accept employment with the Department of State's Foreign Service upon successful completion of the program, and Foreign Service entry requirements. Fellows must continue employment for a period of one and one-half years for each year of education funded by the Department of State.

§ 196.3 Grants to post-secondary education institutions.

The Department of State may make a grant to a post-secondary education institution for the purpose of increasing the level of knowledge and awareness of and interest in employment with the Foreign Service, consistent with 22 U.S.C. 3905, not to exceed$1,000,000, unless otherwise authorized by law.

§ 196.4 Administering Office.

The Department of State's Bureau of Human Resources, Office of Recruitment is responsible for administering the Thomas R. Pickering Foreign Affairs/Graduate Foreign Affairs Fellowship Program and grants to post-secondary institutions and may be contacted for more detailed information.

Dated: January 4, 2002.
Ruben Torres,
Executive Director, Bureau of Human Resources, Department of State.

[FR Doc. 02-711 Filed 1-10-02; 8:45 am]

BILLING CODE 4710-15-P